DEPARTMENT OF THE INTERIOR

National Park Service

[NPS-WASO-NAGPRA-NPS0029120; PCU00RP14.R50000-PPWOCRADN0]

Notice of Inventory Completion: U.S. Department of the Interior, Bureau of Indian Affairs, Washington, DC; Correction

AGENCY: National Park Service, Interior.

ACTION: Notice; correction.

SUMMARY: The U.S. Department of the Interior, Bureau of Indian Affairs has corrected an inventory of human remains and associated funerary objects, published in a Notice of Inventory Completion in the Federal Register on February 8, 2019. This notice corrects the number of associated funerary objects.

ADDRESSES: Anna Pardo, Museum Program Manager/NAGPRA Coordinator, U.S. Department of the Interior, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3003, of the correction of an inventory of associated funerary objects under the control of the U.S. Department of the Interior, Bureau of Indian Affairs, Washington, DC. The human remains and associated funerary objects were removed from sites on and around Black Mesa and Klethla Valley in Coconino and Navajo Counties, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in a Notice of Inventory Completion in the Federal Register (84 FR 2920-2921, February 8, 2019). Additional associated funerary objects were located during preparations for repatriation.

Correction

In the Federal Register (84 FR 2921, February 8, 2019), column 2, paragraph 2, sentence 3 is corrected by substituting the following sentence:

The 10,951 associated funerary objects include ceramic vessels, beads, pollen and soil samples, sherds, lithics, plant and wood materials, groundstone, shells, and faunal remains.

In the Federal Register (84 FR 2921, February 8, 2019), column 2, paragraph 3, sentence 3 is corrected by substituting the following sentence:

Pursuant to 25 U.S.C. 3001(3)(A), the 10,951 objects described in this notice are reasonably believed to have been placed with or near individual human remains at the time of death or later as part of the death rite or ceremony.

Additional Requestors and Disposition

For questions related to this notice, contact Anna Pardo, Museum Program Manager/NAGPRA Coordinator, U.S. Department of the Interior, Bureau of Indian Affairs, 12220 Sunrise Valley Drive, Room 6084, Reston, VA 20191, telephone (703) 390-6343, email Anna.Pardo@bia.gov.

The U.S. Department of the Interior, Bureau of Indian Affairs is responsible for notifying the Hopi Tribe of Arizona; Navajo Nation, Arizona, New Mexico & Utah; and the Zuni Tribe of the Zuni Reservation, New Mexico, that this notice has been published.

Dated: October 15, 2019.
Melanie O'Brien,
Manager, National NAGPRA Program.

[FR Doc. 2019-24399 Filed 11-7-19; 8:45 am]

BILLING CODE 4312-52-P